SMALL BUSINESS ADMINISTRATION

National Women's Business Council; Notice of Public Meeting

AGENCY: Small Business Administration, National Women's Business Council.

ACTION: Notice of open public meeting.

DATES: The public meeting will be held on Wednesday, September 25, 2024, from 1:00 p.m. to 3:00 p.m. EDT.

ADDRESSES: This meeting will be held at the SBA Headquarters at 409 Third St. SW, Washington, DC, 20024.

FOR FURTHER INFORMATION CONTACT: For more information, please visit the NWBC website at www.nwbc.gov, email info@nwbc.gov or call Rhylee Jones (NWBC Public Affairs Associate) at (202) 735-4342.

The meeting is open to the public; however, advance notice of attendance is requested. To RSVP, please visit the NWBC website at www.nwbc.gov. The “Public Meetings” section under “Events” will feature a link to register on Eventbrite. Public questions and comments will be addressed and answered during the Q&A portion of the meeting.

SUPPLEMENTARY INFORMATION: Pursuant to section 10(a)(2) of the Federal Advisory Committee Act, the National Women's Business Council (NWBC) announces its third public meeting of Fiscal Year 2024. The 1988 Women's Business Ownership Act established NWBC to serve as an independent source of advice and policy recommendations to the President, Congress, and the Administrator of the U.S. Small Business Administration (SBA) on issues of importance to women entrepreneurs.

This meeting will allow the Council to deliberate and vote on 2024 policy recommendations. The Council will also share research highlights and engagement throughout the 2024 Fiscal Year. The public will have the opportunity to ask questions and provide comments following the presentations. Accommodation for ASL and translation services will be provided during the September Public Meeting. Please request translation services and other accommodations during registration.

Dated: September 13, 2024.
Andrienne Johnson,
Committee Management Officer.

[FR Doc. 2024-21250 Filed 9-17-24; 8:45 am]

BILLING CODE P